DEPARTMENT OF THE TREASURY

Privacy Act of 1974; System of Records

AGENCY: Department of the Treasury.

ACTION: Notice of a New System of Records.

SUMMARY: In accordance with the Privacy Act of 1974, the Department of the Treasury (“Treasury” or “Department”), Treasury proposes to establish a new system of records titled, “Department of the Treasury—.018 E-Rulemaking System of Records” under the Privacy Act of 1974 for the online collection through the Federal Docket Management System and/or Regulations.gov of public comments to notices of proposed rulemaking, proposed orders, and other policy or regulatory actions that are published in the Federal Register or rules or rule amendments, petitions, and other input collected from the public that may not be associated with statutory or regulatory notice and comment requirements.

DATES: Submit comments on or before February 10, 2020. The new routine uses will be applicable on February 10, 2020 unless Treasury receives comments and determines that changes to the system of records notice are necessary.

ADDRESSES: Comments may be submitted to the Federal E-Rulemaking Portal electronically at http://www.regulations.gov. Comments can also be sent to the Deputy Assistant Secretary for Privacy, Transparency, and Records, Department of the Treasury, Departmental Offices, 1750 Pennsylvania Avenue NW, Washington, DC 20220, Attention: Revisions to Privacy Act Systems of Records. All comments received, including attachments and other supporting documents, are part of the public records and subject to public disclosure. All comments received will be posted without change to www.regulations.gov, including any personal information provided. You should submit only information that you wish to make publicly available.

FOR FURTHER INFORMATION CONTACT: For general questions and privacy issues please contact: Deputy Assistant Secretary for Privacy, Transparency, and Records (202-622-5710), Department of the Treasury, 1500 Pennsylvania Avenue NW, Washington, DC 20220.

SUPPLEMENTARY INFORMATION:

I. E-Rulemaking

In accordance with the Privacy Act of 1974, the Department of the Treasury (“Treasury”) proposes to establish a new system of records titled, “Department of the Treasury—.018 E-Rulemaking System of Records.”

Treasury collects comments on rulemakings and other regulatory actions, which it timely publishes on a website to provide transparency in the informal rulemaking process under the Administrative Procedure Act (“APA”), 5 U.S.C. 553. The Treasury also may solicit comments or other input from the public that may not be associated with statutory or regulatory notice and comment requirements.

During an informal rulemaking or other statutory or regulatory notice and comment process, Department personnel may manually remove a comment from posting if the commenter withdraws his or her comments before the comment period has closed or because the comment contains obscenities or other material deemed inappropriate for publication by the Treasury. However, comments that are removed from posting will be retained by the Department for consideration, if appropriate under the APA.

Below is the description of the new Treasury—.018 E-Rulemaking System of Records.

Treasury has provided a report of this system of records to the Committee on Oversight and Government Reform of the House of Representatives, the Committee on Homeland Security and Governmental Affairs of the Senate, and OMB, pursuant to 5 U.S.C. 552a(r) and OMB Circular A-108, “Federal Agency Responsibilities for Review, Reporting, and Publication under the Privacy Act,” dated December 23, 2016.

II. The Privacy Act

Under the Privacy Act of 1974, 5 U.S.C. 552a, a “system of records” is defined as any group of records under the control of a federal government agency from which information about individuals is retrieved by name or other personal identifier. The Privacy Act establishes the means by which government agencies must collect, maintain, and use personally identifiable information associated with an individual in a government system of records.

Each government agency is required to publish in the Federal Register a notice of a new system of records in which the agency identifies and describes the system of records, the reasons why the agency uses the personally identifying information therein, the routine uses for which the agency will disclose such information outside the agency, and how individuals may exercise their rights under the Privacy Act to determine if the system contains information about them.

Ryan Law,
Deputy Assistant Secretary for Privacy, Transparency, and Records.

SYSTEM NAME AND NUMBER:

Department of the Treasury—.018 E-Rulemaking.

SECURITY CLASSIFICATION:

Unclassified

SYSTEM LOCATION:

Records are maintained at:

a. Department of the Treasury, 1500 Pennsylvania Avenue NW, Washington, DC 20220

b. General Services Administration, 1800 F St NW, Washington, DC 20006

SYSTEM MANAGER(S):

Privacy Act Officer, 1750 Pennsylvania Avenue NW, Washington, DC 20220.

AUTHORITY FOR MAINTENANCE OF THE SYSTEM:

44 U.S.C. 3101; Administrative Procedure Act, Public Law 79-404, 60 Stat. 237; 5 U.S.C. 553 et seq., and rules and regulations promulgated thereunder.

PURPOSE(S) OF THE SYSTEM:

To collect and maintain in an electronic system feedback from the public and industry groups regarding proposed rules and other Treasury regulatory actions in accordance with the Administrative Procedure Act (“APA”) or other statutory or regulatory provisions, as well as input on Treasury actions that may not be associated with notice and comment requirements.

CATEGORIES OF INDIVIDUALS COVERED BY THE SYSTEM:

Individuals providing comments or other input to the Treasury in response to proposed rules, industry filings or other Treasury request for comments associated with Treasury rules, notices, policies or procedures, whether the individuals provide comments or input directly or through their representatives. Any individuals who may be discussed or identified in the comments or input provided by others to the Treasury.

CATEGORIES OF RECORDS IN THE SYSTEM:

Incoming comments or other input to the Treasury in response to proposed rules, or other Treasury request for comments associated with Treasury rules, policies or procedures, provided to the Treasury electronically, by facsimile or postal mail or delivery service. Comments or input submitted to Treasury may include the full name of the submitter, an email address and the name of the organization, if an organization is submitting the comments. The commenter may optionally provide job title, mailing address and phone numbers. The comments or input provided may contain other personal information, although the comment submission instructions advise commenters not to include additional personal or confidential information.

This system excludes comments or input for which the Treasury has received and either has approved or not yet decided a Freedom of Information Act or Privacy Act Request.

RECORDS SOURCE CATEGORIES:

Individuals and organizations providing comments or other input to the Treasury.

ROUTINE USES OF RECORDS MAINTAINED IN THE SYSTEM, INCLUDING CATEGORIES OF USERS AND PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows:

(1) To appropriate federal, state, local, and foreign agencies for the purpose of enforcing and investigating administrative, civil or criminal law relating to the hiring or retention of an employee; issuance of a security clearance, license, contract, grant or other benefit;

(2) To a court, magistrate, or administrative tribunal in the course of presenting evidence, including disclosures to opposing counsel or witnesses in the course of or in preparation for civil discovery, litigation, or settlement negotiations, in response to a court order where relevant or potentially relevant to a proceeding, or in connection with criminal law proceedings;

(3) To a contractor for the purpose of compiling, organizing, analyzing, programming, or otherwise refining records to accomplish an agency function subject to the same limitations applicable to U.S. Department of the Treasury officers and employees under the Privacy Act;

(4) To a congressional office from the records of an individual in response to an inquiry from that congressional office made pursuant to a written Privacy Act waiver at the request of the individual to whom the records pertain;

(5) To third parties during the course of an investigation to the extent necessary to obtain information pertinent to the investigation;

(6) To the Office of Personnel Management, Merit Systems Protection Board, Equal Employment Opportunity Commission, Federal Labor Relations Authority, and the Office of Special Counsel for the purpose of properly administering Federal personnel systems or other agencies' systems in accordance with applicable laws, Executive Orders, and regulations;

(7) To the National Archives and Records Administration (NARA) or General Services Administration pursuant to records management inspections being conducted under the authority of 44 U.S.C. 2904 and 2906;

(8) To other Federal agencies or entities when the disclosure of the existence of the individual's security clearance is needed for the conduct of government business, and

(9) To appropriate agencies, entities, and person when (1) the Department of the Treasury and/or Departmental Offices suspects or has confirmed that there has been a breach of the system of records; (2) the Department of the Treasury and/or Departmental Offices has determined that as a result of the suspected or confirmed breach there is a risk of harm to individuals, the Department of the Treasury and/or Departmental Offices (including its information systems, programs, and operations), the Federal Government, or national security; and (3) the disclosure made to such agencies, entities, and persons is reasonably necessary to assist in connection with the Department of the Treasury's and/or Departmental Offices' efforts to respond to the suspected or confirmed breach or to prevent, minimize, or remedy such harm;

(10) To another Federal agency or Federal entity when the Department of the Treasury and/or Departmental Offices determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(11) To General Services Administration for purposes of operating the E-Rulemaking system.

POLICIES AND PRACTICES FOR STORAGE OF RECORDS:

Records in this system are stored electronically or on paper in secure facilities in a locked drawer behind a locked door.

POLICIES AND PRACTICES FOR RETRIEVAL OF RECORDS:

Records may be retrieved by an individual's name, social security number, email address, electronic identification number and/or access/security badge number.

POLICIES AND PRACTICES FOR RETENTION AND DISPOSAL OF RECORDS:

The retention and disposal period depends on the nature of the comments or input provided to the Treasury. For example, comments that pertain to a Treasury proposed rule becomes part of the Treasury's central files and are kept permanently. Other input to the Treasury may be kept between one and 10 years, depending on the subject matter.

ADMINISTRATIVE, TECHNICAL, AND PHYSICAL SAFEGUARDS:

Records in this system are safeguarded in accordance with applicable rules and policies, including all applicable Treasury automated systems security and access policies. Strict controls have been imposed to minimize the risk of compromising the information that is being stored. Access to the computer system containing the records in this system is limited to those individuals who have a need to know the information for the performance of their official duties and who have appropriate clearances.

Entrance to data centers and support organization offices is restricted to those employees whose work requires them to be there for the system to operate. Identification (ID) cards are verified to ensure that only authorized personnel are present. Disclosure of information through remote terminals is restricted through the use of passwords and sign-on protocols which are periodically changed. Reports produced from the remote printers are in the custody of personnel and financial management officers and are subject to the same privacy controls as other documents of similar sensitivity. Access is limited to authorized employees. Paper records are maintained in locked safes and/or file cabinets. Electronic records are password-protected. During non-work hours, records are stored in locked safes and/or cabinets in a locked room.

Protection and control of any sensitive but unclassified (SBU) records are in accordance with TD P 71-10, Department of the Treasury Security Manual. Access to the records is available only to employees responsible for the management of the system and/or employees of program offices who have a need for such information.

The GSA information technology system that hosts regulations.gov and FDMS is in a facility protected by physical walls, security guards, and requiring identification badges. Rooms housing the information technology system infrastructure are locked, as are the individual server racks. All security controls are reviewed on a periodic basis by external assessors. The controls themselves include measures for access control, security awareness training, audits, configuration management, contingency planning, incident response, and maintenance.

Records in FDMS are maintained in a secure, password protected electronic system that utilizes security hardware and software to include multiple firewalls, active intrusion detection, encryption, identification and authentication of users.

Partner agencies manage their own access to FDMS through their designated partner agency account managers. Each designated partner agency account manager has access to FDMS. This level of access enables them to establish, manage, and terminate user accounts limited to their own agency.

RECORDS ACCESS PROCEDURES:

See “Notification Procedures” below.

CONTESTING RECORDS PROCEDURES:

See “Notification Procedures” below.

NOTIFICATION PROCEDURES:

Individuals seeking notification and access to any records contained in the system of records, or seeking to contest its content, may inquire in accordance with instructions pertaining to individual Treasury components appearing at 31 CFR part 1, subpart C, appendix A.

EXEMPTIONS PROMULGATED FOR THE SYSTEM:

None.

HISTORY:

None.

[FR Doc. 2020-00145 Filed 1-8-20; 8:45 am]

BILLING CODE 4810-25-P